SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: April 1, 2012, through April 30, 2012.

ADDRESSES: Susquehanna River Basin Commission, 1721 North Front Street, Harrisburg, PA 17102-2391.

FOR FURTHER INFORMATION CONTACT: Richard A. Cairo, General Counsel, telephone: (717) 238-0423, ext. 306; fax: (717) 238-2436; email: rcairo@srbc.net. Regular mail inquiries may be sent to the above address.

SUPPLEMENTARY INFORMATION: This notice lists the projects, described below, receiving approval for the consumptive use of water pursuant to the Commission's approval by rule process set forth in 18 CFR 806.22(f) for the time period specified above:

Approvals By Rule Issued Under 18 CFR § 806.22(f)

1. SWEPI, LP, Pad ID: Shedd 514, ABR-201204001, Rutland Township, Tioga County, Pa.; Consumptive Use of Up to 4.000 mgd; Approval Date: April 11, 2012.

2. Chief Oil & Gas LLC, Pad ID: Leh Drilling Pad #1, ABR-201204002, Burlington Township, Bradford County, Pa.; Consumptive Use of Up to 2.000 mgd; Approval Date: April 11, 2012.

3. Chief Oil & Gas LLC, Pad ID: Yanavitch Drilling Pad #1, ABR-201204003, Stevens Township, Bradford County, Pa.; Consumptive Use of Up to 2.000 mgd; Approval Date: April 11, 2012.

4. Chief Oil & Gas LLC, Pad ID: D & J Farms Drilling Pad #1, ABR-201204004, Sheshequin Township, Bradford County, Pa.; Consumptive Use of Up to 2.000 mgd; Approval Date: April 11, 2012.

5. EXCO Resources (PA), Inc., Pad ID: Murray Unit Pad, ABR-201204005, Penn Township, Lycoming County, Pa.; Consumptive Use of Up to 8.000 mgd; Approval Date: April 11, 2012.

6. Chesapeake Appalachia, LLC, Pad ID: Maurice, ABR-201204006, Herrick Township, Bradford County, Pa.; Consumptive Use of Up to 7.500 mgd; Approval Date: April 18, 2012.

7. SWEPI, LP, Pad ID: Owlett 843R, ABR-201204007, Middlebury Township, Tioga County, Pa.; Consumptive Use of Up to 4.000 mgd; Approval Date: April 23, 2012.

8. SWEPI, LP, Pad ID: Hepler 235, ABR-201204008, Sullivan Township, Tioga County, Pa.; Consumptive Use of Up to 4.000 mgd; Approval Date: April 23, 2012.

9. Chesapeake Appalachia, LLC, Pad ID: Manning, ABR-201204009, Cherry Township, Sullivan County, Pa.; Consumptive Use of Up to 7.500 mgd; Approval Date: April 23, 2012.

10. EQT Production Co., Pad ID: Phoenix N (ANT6), ABR-201204010, Duncan Township, Tioga County, Pa.; Consumptive Use of Up to 3.000 mgd; Approval Date: April 27, 2012.

11. Chesapeake Appalachia, LLC, Pad ID: Simplex, ABR-201204011, Standing Stone Township, Bradford County, Pa.; Consumptive Use of Up to 7.500 mgd; Approval Date: April 27, 2012.

12. Southwestern Energy Production Company, Pad ID: Claytor Pad, ABR-201204012, New Milford and Great Bend Townships, Susquehanna County, Pa.; Consumptive Use of Up to 4.999 mgd; Approval Date: April 27, 2012.

13. Southwestern Energy Production Company, Pad ID: Charles Pad, ABR-201204013, Jackson Township, Susquehanna County, Pa.; Consumptive Use of Up to 4.999 mgd; Approval Date: April 27, 2012.

14. Chesapeake Appalachia, LLC, Pad ID: Freed, ABR-201204014, Albany Township, Bradford County, Pa.; Consumptive Use of Up to 7.500 mgd; Approval Date: April 30, 2012.

15. Chesapeake Appalachia, LLC, Pad ID: Reilly, ABR-201204015, Colley Township, Sullivan County, Pa.; Consumptive Use of Up to 7.500 mgd; Approval Date: April 30, 2012.

16. Southwestern Energy Production Company, Pad ID: Conigliaro Pad, ABR-201204016, New Milford Township, Susquehanna County, Pa.; Consumptive Use of Up to 4.999 mgd; Approval Date: April 30, 2012.

17. Southwestern Energy Production Company, Pad ID: Estabrooks Pad, ABR-201204017, Harford Township, Susquehanna County, Pa.; Consumptive Use of Up to 4.999 mgd; Approval Date: April 30, 2012.

18. Southwestern Energy Production Company, Pad ID: Conklin South Pad, ABR-201204018, New Milford Township, Susquehanna County, Pa.; Consumptive Use of Up to 4.999 mgd; Approval Date: April 30, 2012.

19. Southwestern Energy Production Company, Pad ID: Glover Pad, ABR-201204019, Thompson Township, Susquehanna County, Pa.; Consumptive Use of Up to 4.999 mgd; Approval Date: April 30, 2012.

20. Southwestern Energy Production Company, Pad ID: Gaylord Pad, ABR-201204020, Jackson Township, Susquehanna County, Pa.; Consumptive Use of Up to 4.999 mgd; Approval Date: April 30, 2012.

21. Southwestern Energy Production Company, Pad ID: Page Pad, ABR-201204021, Jackson Township, Susquehanna County, Pa.; Consumptive Use of Up to 4.999 mgd; Approval Date: April 30, 2012.

22. Southwestern Energy Production Company, Pad ID: Seamans Pad, ABR-201204022, Harford Township, Susquehanna County, Pa.; Consumptive Use of Up to 4.999 mgd; Approval Date: April 30, 2012.

23. Southwestern Energy Production Company, Pad ID: Walker Pad, ABR-201204023, Jackson Township, Susquehanna County, Pa.; Consumptive Use of Up to 4.999 mgd; Approval Date: April 30, 2012.

24. Southwestern Energy Production Company, Pad ID: Warner Pad, ABR-201204024 New Milford Township, Susquehanna County, Pa.; Consumptive Use of Up to 4.999 mgd; Approval Date: April 30, 2012.

25. Southwestern Energy Production Company, Pad ID: Preston-Perkins Pad, ABR-201204025, Stevens Township, Bradford County, Pa.; Consumptive Use of Up to 4.999 mgd; Approval Date: April 30, 2012.

Authority: Pub. L. 91-575, 84 Stat. 1509 et seq., 18 CFR Parts 806, 807, and 808.

Dated: May 30, 2012.
Stephanie L. Richardson,
Secretary to the Commission.

[FR Doc. 2012-13999 Filed 6-8-12; 8:45 am]

BILLING CODE 7040-01-P